DEPARTMENT OF LABOR

Employment and Training Administration

[NAFTA-4389]

Raider Apparel Inc. Alma, Georgia; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on December 14, 2000 in response to a petition filed on behalf of workers at Raider Apparel Inc., Alma, Georgia.

An active certification covering the petitioning group of workers remains in effect (NAFTA-3103). Consequently, further investigation in this case would serve no purpose, and the investigation has been terminated.

Signed at Washington, DC, this 23rd day of April, 2001.
Linda G. Poole,
Certifying Officer, Division of Trade Adjustment Assistance.

[FR Doc. 01-10943 Filed 5-1-01; 8:45 am]

BILLING CODE 4510-30-M